DEPARTMENT OF COMMERCE

National Oceanic and Atmospheric Administration

RIN 0648-XC598

Endangered and Threatened Species; Availability of the Final Recovery Plan for Staghorn and Elkhorn Corals

AGENCY: National Marine Fisheries Service, National Oceanic and Atmospheric Administration, Commerce.

ACTION: Notice of availability.

SUMMARY: The National Marine Fisheries Service (NMFS) announces the adoption of a Final Endangered Species Act recovery plan for elkhorn coral and staghorn coral. The Final Recovery Plan (Plan) for Elkhorn Coral (Acropora palmata) and Staghorn Coral (Acropora cervicornis) is now available.

ADDRESSES: Electronic copies of the Plan are available on the NMFS Web site at http://www.nmfs.noaa.gov/pr/recovery/plans.htm and on the Southeast Regional Office Web site at http://sero.nmfs.noaa.gov/protected_resources/coral/.

A copy of the Plan can be obtained by writing to: Assistant Regional Administrator for Protected Resources, NMFS, Southeast Regional Office, 263 13th Avenue South, St. Petersburg, FL 33701, Attn: Acropora Recovery Plan.

FOR FURTHER INFORMATION CONTACT: Alison Moulding (727-824-5312), email Alison.Moulding@noaa.gov.

SUPPLEMENTARY INFORMATION:

Background

The Endangered Species Act of 1973 (ESA), as amended (16 U.S.C. 1531 et seq.) requires NMFS to develop and implement recovery plans for the conservation and survival of threatened and endangered species, unless it is determined that such plans would not result in the conservation of the species. NMFS designated elkhorn and staghorn corals as “threatened” under the ESA in May 2006. In September 2014, NMFS published a final rule maintaining the status of elkhorn and staghorn corals as threatened species. NMFS published a Notice of Availability and requested public comments on the Draft Recovery Plan for Elkhorn Coral and Staghorn Coral (Draft Plan) in the Federal Register on September 5, 2014. We revised the Draft Plan based on the comments received, and this final version now constitutes the Recovery Plan for Elkhorn Coral (Acropora palmata) and Staghorn Coral (Acropora cervicornis).

The Final Plan

Recovery plans describe actions beneficial for the conservation and recovery of species listed under the ESA. Section 4(f)(1) of the ESA requires that recovery plans incorporate, to the maximum extent practicable: (1) Objective, measurable criteria which, when met, would result in a determination that the species is no longer threatened or endangered; (2) site-specific management actions necessary to achieve the Plan's goals; and (3) estimates of the time required and costs to implement recovery actions. The ESA requires the development of recovery plans for each listed species unless a recovery plan would not promote a species' conservation.

The purpose of the Plan is to rebuild and assure the long-term viability of elkhorn and staghorn coral populations in the wild, allowing ultimately for the species' removal from the federal list of endangered and threatened species. The goal of the Plan is to increase the abundance and to protect the genetic diversity of elkhorn and staghorn coral populations throughout their geographical ranges while sufficiently abating threats to warrant delisting of both species. Elkhorn and staghorn coral populations should be large enough to include numerous groups of successfully reproducing individuals, including thickets, across the historical range of these species. These groups should be large enough to protect genetic diversity and maintain ecosystem function. The recovery approach includes research and monitoring to identify, reduce, or eliminate threats so the recovery objectives outlined in the Plan have the greatest likelihood of being achieved. Because some threats to elkhorn and staghorn corals cannot be directly managed (e.g., disease), the Plan pursues concurrent actions to address both global and local threats. Population enhancement is also an integral part of elkhorn and staghorn recovery through restoration, restocking, and active management. Ecosystem-level actions are identified to improve habitat quality and restore community structure and ecological functions, such as herbivory, to sustain adult colonies and enable successful recruitment in the wild over the long term. The goal, objectives, and criteria of the Plan represent NMFS' expectation of conditions to recover elkhorn and staghorn corals so they no longer need the protective measures provided by the ESA.

The recovery criteria in the Plan are based on the current literature and expert consensus. In some cases, the current best available information is so limited that it is not practicable to identify recovery criteria. Instead, interim criteria are identified to gather and obtain the information necessary to establish final recovery criteria. Recovery criteria can be viewed as targets, or values, by which progress toward achievement of recovery objectives can be measured. In the Plan we frame recovery criteria both in terms of population parameters (Population-based Recovery Criteria) and the five ESA listing factors (Threat-based Recovery Criteria). The Plan also includes the projected timeframe to recover elkhorn and staghorn corals and the cost of implementing actions.

Conclusion

NMFS has reviewed the Plan for compliance with the requirements of ESA section 4(f), determined that it does incorporate the required elements, and is therefore adopting it as the Final Recovery Plan for elkhorn and staghorn corals.

Authority: 16 U.S.C. 1531 et seq.

Dated: March 3, 2015.
Angela Somma,
Chief, Endangered Species Conservation Division, Office of Protected Resources, National Marine Fisheries Service.

[FR Doc. 2015-05192 Filed 3-5-15; 8:45 am]

BILLING CODE 3510-22-P